DEPARTMENT OF COMMERCE

National Oceanic and Atmospheric Administration

RIN 0648-XA893

Pacific Fishery Management Council; Public Meeting

AGENCY: National Marine Fisheries Service (NMFS), National Oceanic and Atmospheric Administration (NOAA), Commerce.

ACTION: Notice of a public meeting.

SUMMARY: The Pacific Fishery Management Council (Council) will convene a meeting via conference call of the Ecosystem Plan Development Team (EPDT) which is open to the public.

DATES: The EPDT will meet on Thursday, January 19, 2012 from 1:30 p.m. to 5 p.m., or when business for the day is completed.

ADDRESSES: A public listening station will be available at the Pacific Council Office, Small Conference Room, 7700 NE Ambassador Place, Suite 101; Portland, OR 97220; telephone: (503) 820-2280.

FOR FURTHER INFORMATION CONTACT: Mike Burner, Staff Officer; telephone: (503) 820-2280.

SUPPLEMENTARY INFORMATION: Please note, this is not a public hearing; it is a work session for the primary purpose of drafting a report and recommendations to the Council on the Development of a Fishery Ecosystem Plan (FEP). The EPDT will primarily address Council requests from the November 2011 Council meeting. The primary purpose of the meeting is to revise and expand sections of the Council's developing Fishery Ecosystem Plan, discuss the content and format of an annual ecosystem report, explore mechanisms for incorporating ecosystem science into stock assessments, and revisit the need and mechanisms for expanding protective measures for unexploited forage species. The EPDT may also develop recommendations for the March 2012 Council meeting.

Although non-emergency issues not contained in the meeting agenda may come before the EPDT for discussion, those issues may not be the subject of formal EPDT action during this meeting. EPDT action will be restricted to those issues specifically listed in this notice and any issues arising after publication of this notice that require emergency action under Section 305(c) of the Magnuson-Stevens Fishery Conservation and Management Act, provided the public has been notified of the intent to take final action to address the emergency.

Special Accommodations

This meeting is physically accessible to people with disabilities. Requests for sign language interpretation or other auxiliary aids should be directed to Mr. Kris Kleinschmidt at (503) 820-2280 at least 5 days prior to the meeting date.

Dated: December 20, 2011.
Tracey L. Thompson,
Acting Director, Office of Sustainable Fisheries, National Marine Fisheries Service.

[FR Doc. 2011-32959 Filed 12-22-11; 8:45 am]

BILLING CODE 3510-22-P